DEPARTMENT OF THE INTERIOR

National Park Service

[NPS-WASO-NAGPRA-NPS0040322; PPWOCRADN0-PCU00RP14.R50000]

Notice of Inventory Completion: Bryn Mawr College, Bryn Mawr, PA

AGENCY: National Park Service, Interior.

ACTION: Notice.

SUMMARY: In accordance with the Native American Graves Protection and Repatriation Act (NAGPRA), Bryn Mawr College has completed an inventory of human remains and associated funerary objects and has determined that there is a cultural affiliation between the human remains and associated funerary objects and Indian Tribes or Native Hawaiian organizations in this notice.

DATES: Repatriation of the human remains and associated funerary objects in this notice may occur on or after July 11, 2025.

ADDRESSES: Send written requests for repatriation of the human remains and associated funerary objects in this notice to Marianne Weldon, Bryn Mawr College, 101 N Merion Avenue, Bryn Mawr, PA 19010, email mweldon@brynmawr.edu.

SUPPLEMENTARY INFORMATION: This notice is published as part of the National Park Service's administrative responsibilities under NAGPRA. The determinations in this notice are the sole responsibility of Bryn Mawr College, and additional information on the determinations in this notice, including the results of consultation, can be found in the inventory or related records. The National Park Service is not responsible for the determinations in this notice.

Abstract of Information Available

Based on the information available, human remains representing, at least, one individual have been reasonably identified. In the late 1800s, Wallace R. Andrus removed the individual and associated funerary objects from east of the Cascades in Washington State while surveying for the development of the North Pacific Railway. On an unknown date, the individual and associated funerary objects were transferred to his son, Howard Andrus, before being donated to the College as a gift from Frederica de Laguna, Class of 1927, Professor of Anthropology at Bryn Mawr College and granddaughter of Wallace Andrus. The 34 associated funerary objects are one lot of points, bunts, sherds, and fragments; one metal coin; five lots of points; one lot of glass beads on a string; five projectile points; four lots of stone fragments; one lot of worked stone fragments; one lot of projectile points and bunts; one lot of cores and fragments; one fragment; two striated rocks or petrified wood; one lot of glass beads; one lot of beads or possible seed pods; two canine teeth of a terrestrial carnivore; one shell amulet or disc; two lots of bone beads; two lots of shell beads; one heavily worked long bone fragment; and one lot of glass fragments.

Cultural Affiliation

Based on the information available and the results of consultation, cultural affiliation is clearly identified by the information available about the human remains and associated funerary objects described in this notice.

Determinations

Bryn Mawr College has determined that:

• The human remains described in this notice represent the physical remains of one individual of Native American ancestry.

• The 34 objects described in this notice are reasonably believed to have been placed intentionally with or near individual human remains at the time of death or later as part of the death rite or ceremony.

• There is a reasonable connection between the human remains and associated funerary objects described in this notice and Coeur D'Alene Tribe; Confederated Salish and Kootenai Tribes of the Flathead Reservation; Confederated Tribes and Bands of the Yakama Nation; Confederated Tribes of the Colville Reservation; Confederated Tribes of the Umatilla Indian Reservation; Confederated Tribes of the Warm Springs Reservation of Oregon; Kalispel Indian Community of the Kalispel Reservation; Kootenai Tribe of Idaho; Nez Perce Tribe; and the Spokane Tribe of the Spokane Reservation.

Requests for Repatriation

Written requests for repatriation of the human remains and associated funerary objects in this notice must be sent to the authorized representative identified in this notice under ADDRESSES. Requests for repatriation may be submitted by:

1. Any one or more of the Indian Tribes or Native Hawaiian organizations identified in this notice, and, if joined to a request from one or more of the Indian Tribes, the Wanapum Band of Priest Rapids, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 11, 2025. If competing requests for repatriation are received, Bryn Mawr College must determine the most appropriate requestor prior to repatriation. Requests for joint repatriation of the human remains and associated funerary objects are considered a single request and not competing requests. Bryn Mawr College is responsible for sending a copy of this notice to the Indian Tribes and Native Hawaiian organizations identified in this notice.

Authority: Native American Graves Protection and Repatriation Act, 25 U.S.C. 3003, and the implementing regulations, 43 CFR 10.10.

Dated: May 27, 2025.
Melanie O'Brien,
Manager, National NAGPRA Program.

[FR Doc. 2025-10592 Filed 6-10-25; 8:45 am]

BILLING CODE 4312-52-P